INTERNATIONAL TRADE COMMISSION

[Investigation No. 332-447]

Advice Concerning Possible Modifications to the U.S. Generalized System of Preferences (GSP)

AGENCY: International Trade Commission.

ACTION: Institution of investigation and scheduling of hearing.

SUMMARY: Following receipt on August 22, 2002, of a request from the United States Trade Representative (USTR) under section 332(b) of the Tariff Act of 1930 (19 U.S.C. 1332 (g)), the Commission instituted investigation No. 332-447, Advice Concerning Possible Modifications to the U.S. Generalized System of Preferences.

Background: As requested by the USTR, in accordance with sections 503(a)(1)(A) 503(e), and 131(a) of the Trade Act of 1974 (1974 Act), and under section 332(g) of the Tariff Act of 1930, the Commission will provide advice as to the probable economic effort on U.S. industries producing like or directly competitive articles and on consumers of the elimination of U.S. import duties for all beneficiary countries under the GSP for the following HTS subheadings: 0406.90.41, 1202.10.40, 1202.20.40, 1901.90.42, 2008.11.25, 2008.11.45, 2009.41.20, 2009.49.20, 2009.60.00, 2009.69.00, 2204.30.00, 3806.90.00, 7202.99.50, 8482.10.10, 8482.10.50, and 8482.20.00.

In providing its advice on these articles, the USTR asked that the Commission assume that the benefits of the GSP would not apply to imports that would be excluded from receiving from receiving such benefits by virtue of the competitive need limits specified in section 503(c)(2)(A) of the 1974 Act.

As requested under section 332(g) of the Tariff Act of 1930 and in accordance with section 503(d)(1)(A) of the 1974 Act, the Commission will provide advice on whether any industry in the United States is likely to be adversely affected by a waiver of the competitive need limits specified in section 503(c)(2)(A) of the 1974 Act for Argentina for the following HTS subheadings: 1202.20.40, 2008.11.25, 2009.61.00, 2009.69.00; for the Philippines or HTS subheading 2009.49.20; and for Turkey for HTS subheading 7113.19.50.

With respect to the competitive need limit in section 503(c)(2)(A)(i)(I) of the 1974 Act, the Commission, as requested, will use the dollar value limit of $100,000,000.

As requested by the USTR, the Commission will seek to provide its advice not later than December 4, 2002.

EFFECTIVE DATE: September 4, 2002.

FOR FURTHER INFORMATION CONTACT:

(1) Project Manager, Cynthia B. Foreso (202-205-3348)

(2) Deputy Project Manager, Judith-Anne Webster (202-205-3489)

(3) Deputy Project Manager, Eric Land (202-205-3349)

The above persons are in the Commission's Office of Industries. For information on legal aspects of the investigation, contact William Gearhart of the Commission's Office of the General Counsel at 202-205-3091.

Public Hearing: A public hearing in connection with this investigation is scheduled to begin at 9:30 a.m. on October 17, 2002, at the U.S. International Trade Commission Building, 500 E Street SW., Washington, DC. All persons have the right to appear by counsel or in person, to present information, and to be heard. Persons wishing to appear at the public hearing should file a letter with the Secretary, United States International Trade Commission, 500 E St., SW., Washington, DC 20436, not later than the close of business (5:15 p.m.) on September 20, 2002. In addition, persons appearing should file prehearing briefs (original and 14 copies) with the Secretary by the close of business on September 24, 2002. Posthearing briefs should be filed with the Secretary by the close of business on October 22, 2002. In the event that no requests to appear at the hearing are received by the close of business on September 21, 2002, the hearing will be canceled. Any person interested in attending the hearing as an observer or non-participant may call the Secretary to the Commission (202-205-1816) after September 22, 2002 to determine whether the hearing will be held.

Written Submissions: In lieu of or in addition to appearing at the public hearing, interested persons are invited to submit written statements concerning the investigation. Written statements should be received by the close of business on October 22, 2002. Commercial or financial information which a submitter desires the Commission to treat as confidential must be submitted on separate sheets of paper, each clearly marked “Confidential Business Information” at the top. All submissions requesting confidential treatment must conform with the requirements of section 201.6 of the Commission's Rules of Practice and Procedure (19 CFR 201.6). All written submissions, except for confidential business information, will be made available for inspection by interested persons. The Commission may include such confidential business information in the report it sends to USTR. All submissions should be addressed to the Secretary at the Commission's office in Washington, DC. The Commission's rules do not authorize filing of submissions with the Secretary by facsimile or electronic means. Hearing-impaired individuals are advised that information on this matter can be obtained by contracting our TDD terminal on (202) 205-1810.

Issued: September 5, 2002.
By order of the Commission.
Marilyn R. Abbott,
Secretary to the Commission.

[FR Doc. 02-22920 Filed 9-09-02; 8:45 am]

BILLING CODE 7020-02-M